DEPARTMENT OF TRANSPORTATION

Research and Innovative Technology Administration

University Transportation Centers Program

AGENCY: Research and Innovative Technology Administration, DOT.

ACTION: Notice of Funding Availability.

SUMMARY: The United States Department of Transportation (the Department) is publishing this notice to give eligible nonprofit institutions of higher learning advance notice that they will have an opportunity to submit grant applications for the University Transportation Centers (UTCs) program. The Department requests public comments on this notice.

Funds for this grant program are authorized beginning on October 1, 2012. In the near future, the Department, via the Research and Innovative Technology Administration (RITA), will release a grant solicitation through Grants.gov and on the UTC Program's Web site, http://utc.dot.gov, describing the competition and deadlines for applications. Proposals will be evaluated through a competitive process on the basis of demonstrated ability, research, technology and education resources, leadership, multimodal research capability, and commitment to transportation workforce development programs, technology transfer capability, the use of peer review, and effective partnerships to advance diversity.

DATES: All public comments must be received by October 31, 2012.

ADDRESSES: You may send comments identified by Docket Number RITA-2012-0002 using any of the following methods:

Government-wide rulemaking Web site: http://www.regulations.gov and follow the instructions for sending your comments electronically.

Mail: Docket Management Facility, U.S. Department of Transportation, 1200 New Jersey Avenue SE., Washington, DC 20590-0001. Fax 1-202-493-2251.

Courier: Commercial delivery service, such as, but not limited to the following—Federal Express or United Parcel Service, addressed to Docket Management Facility, U.S. Department of Transportation, 1200 New Jersey Avenue SE., Washington DC 20590.

Hand Delivery: Docket Management Facility, U.S. Department of Transportation, 1200 New Jersey Avenue SE., Washington, DC between 9 a.m. and 5 p.m. Monday through Friday, except Federal holidays.

The Department will post all comments received, without change, to http://dms.dot.gov, including any personal information. If you mail or hand deliver your comments and want the Department to acknowledge receipt of your comments, include with your comments a pre-addressed, stamped postcard on which the docket number appears. We will stamp the date on the postcard and mail it to you.

Docket: To read background documents or comments received, go to http://dms.gov or to Docket Management Facility, U. S. Department of Transportation, 1200 New Jersey Avenue SE., Washington, DC, between 9 a.m. and 5 p.m. Monday through Friday, except Federal holidays.

Privacy Act: Anyone is able to search the electronic form of all comments received in any of our dockets by the name of the individual submitting the comment (or signing the comment if submitted on behalf of an association, a business, a labor union, etc.). You may review the Department's complete Privacy Act statement in the Federal Register published on April 11, 2000 (65 FR 19477-78), or you may visit http://Docketslnfo.dot.gov.

FOR FURTHER INFORMATION CONTACT: Dr. Kevin Womack, Associate Administrator for Research, Development and Technology, mail code RDT-10, Research and Innovative Technology Administration (RITA), 1200 New Jersey Avenue SE., Washington, DC 20590. Telephone Number (202) 366-5306 or Email Kevin.Womack@dot.gov.

SUPPLEMENTARY INFORMATION:

Table of Contents

I. Background

II. Eligibility

III. Matching Requirements

IV. Application Process

V. Program Funding and Award

VI. Use of Grant Funds

VII. Request for Comments

I. Background

The Moving Ahead for Progress in the 21st Century Act (MAP-21, Pub. L. 112-141, Sec. 51001(a)(5)) authorizes $72.5 million for each of the fiscal years 2013 (FY 2013) and 2014 (FY 2014) for up to 35 competitive grants for UTCs. The FY 2013 and FY 2014 funds are subject to an annual obligation limitation. The amount of budget authority available in a given year may be less than the amount authorized for that fiscal year.

MAP-21 authorizes the Secretary of Transportation to make grants to eligible nonprofit institutions of higher education to establish and operate UTCs. RITA will administer the program. The Department will solicit competitive grant applications for national university transportation Centers, regional university transportation Centers, and Tier I university transportation Centers as set forth in MAP-21. UTCs will be selected by the Secretary, in consultation as appropriate with the Administrators of the Federal Highway Administration and the Federal Transit Administration. (49 U.S.C. 5505(b)(4)(B) as amended by Pub. L. 112-141, Sec. 52009 (effective Oct. 1, 2012)).

The Department plans to competitively select five national UTCs with an award of $3 million each, ten regional UTCs with an award of $2.75 million each, and up to 20 Tier I UTCs with an award of $1.5 million each.

The role of each UTC is to advance transportation expertise and technology in the varied disciplines that comprise the field of transportation through education, research, and technology transfer activities; to provide for a critical transportation knowledge base outside of the Department of Transportation; and to address critical workforce needs and educate the next generation of transportation leaders.

II. Eligibility

A UTC must be located in the United States or territories. It may be a single nonprofit institution of higher learning, or a consortium of two or more nonprofit institutions of higher learning.

A regional UTC must be located in the region for which the grant is sought. (49 U.S.C. 5505(c)(3)(A) as amended by Pub. L. 112-141, Sec. 52009 (effective Oct. 1, 2012)). If a regional UTC is a consortium of two or more nonprofit institutions of higher learning, then each institution in the consortium must be located in the region for which the grant is sought.

Institutions may collaborate with state departments of transportation, the private sector, and community, junior, or technical colleges; however, these organizations or others that are not U.S. nonprofit institutions of higher learning may not be considered members of a consortium. The grantee institution (lead institution in the case of a consortium of institutions) will be the direct and primary recipient of UTC program funds, and must perform a substantive role in carrying out UTC activities, and not serve merely as a conduit for awards to other parties.

Applicants may apply for more than one type of grant, but MAP-21 limits the circumstances in which an institution may receive more than one grant. (49 U.S.C. 5505(b)(2) as amended by Pub. L. 112-141, Sec. 52009 (effective Oct. 1, 2012)). These restrictions include:

• A lead institution of a consortium that receives a grant for a National Center or a Regional Center is not eligible to receive a Tier I grant in any capacity (either as a sole institution, a lead institution or a member of a consortium).

• A lead institution of a consortium that receives a grant for a National or Regional Center is not eligible to receive an additional grant as a lead institution or a member of a consortium for a National or Regional Center.

• A sole institution that receives a grant for a National or Regional Center is not eligible to receive an additional grant as a lead institution or a member of a consortium for a National or Regional Center.

• A member of a consortium that receives a grant for a National or Regional Center is not eligible to receive a grant as a sole institution for a National or Regional Center, or as a lead institution for a National or Regional Center.

Applicants that apply for more than one type of grant may face a statutory restriction to being selected for more than one grant.

III. Matching Requirements

Each UTC is required to obtain matching funds from non-federal sources. The amount of matching funds required for a national or regional UTC is 100 percent. The amount of matching funds required for a Tier I UTC is 50 percent. The matching amounts may include the amounts made available to a grant recipient under 23 U.S.C. 504(b) or 505. (49 U.S.C. 5505(c)(3)(D)(ii) as amended by Pub. L. 112-141, Sec. 52009 (effective Oct. 1, 2012)). A Tier I UTC may be exempted from the requirement for matching funds if it demonstrates that providing the required 50 percent matching funds would constitute a financial hardship on the applicant institution. Currently, the Department is developing criteria for determining how an applicant can demonstrate financial hardship. For example, the Department is considering having applicants explain the following:

1. Has your institution received any federal research funding, in the past five years, that required a match which your institution or a collaborative partner provided?

2. Has your institution received any research funds from your state Department of Transportation during the past five years?

3. Does your institution house a federally funded Local Technical Assistance Program (LTAP) Center?

4. Is the size of your institutional endowment greater than $50 million?

One option under consideration is that if an applicant answers “yes” to any of the questions then there is a rebuttable presumption that the applicant does not qualify for the exemption for the matching requirement. The Department solicits public comments as to what other hardship criteria or evaluation methods should be used in determining a financial hardship.

IV. Application Process

Full and Open Competition. The Department will conduct the UTC program selection based on principles of full and open competition. Five National Centers, ten Regional Centers, and up to 20 Tier I Centers will be selected from the pool of applicants for each type of UTC.

Subject Matter Focus. An applicant for a National UTC must focus its research on one of the Department's five strategic goals:

1. Safety: Improve public health and safety by reducing transportation-related fatalities and injuries.

2. State of Good Repair: Ensure the U.S. proactively maintains its critical transportation infrastructure in a state of good repair.

3. Economic Competitiveness: Promote transportation policies, investments, and innovations that bring lasting and equitable economic benefits to the Nation and its citizens.

4. Livable Communities: Foster livable communities through place-based policies and investments that increase transportation choices and access to transportation services.

5. Environmental Sustainability: Advance environmentally sustainable policies and investments that reduce carbon and other harmful emissions from transportation sources.

The Department intends to select one national UTC to lead research in each of the five goal areas.

Regional UTCs (one UTC in each of ten Standard Federal Regions, each receiving $2.75M/year) are required to focus on highway and/or public transportation research and education (49 U.S.C. 5505(c)(3)(B)(iii) as amended by Pub. L. 112-141, Sec. 52009 (effective Oct. 1, 2012)). Regional UTCs must be able to conduct research in an area of focus from among “nonexclusive candidate topic areas established by the Secretary that address the research priorities identified in section 503 of title 23” (49 U.S.C. 5505(b)(4)(A) as amended by Pub. L. 112-141, Sec. 52009 (effective Oct. 1, 2012)). One of the regional Centers must focus on “comprehensive transportation safety” as its main research issue (49 U.S.C. 5505(c)(3)(E) as amended by Pub. L. 112-141, Sec. 52009 (effective Oct. 1, 2012)). An applicant for a regional UTC must designate the region in which it is applying.

Based on the statute's general selection criteria, the Tier I UTCs (no more than 20 UTCs receiving $1.5M/year) must focus on nonexclusive candidate topic areas that address the research priorities identified in section 503 of title 23 (49 U.S.C. 5505(b)(4)(A) as amended by Pub. L. 112-141, Sec. 52009 (effective Oct. 1, 2012)). The Department seeks a balanced portfolio of UTCs that supports the Department's Strategic Goals, contains different types and/or sizes of universities, and focuses on improving overall system performance using multiple transportation resources that address multimodal needs. In making awards to Tier I UTCs, consideration will be given to minority institutions, as defined by section 365 of the Higher Education Act of 1965 (20 U.S.C. 1067k), or consortia that include such institutions that have demonstrated an ability in transportation-related research.

Letter of Intent. The solicitation will require that each applicant submit a non-binding letter of intent approximately one month after the solicitation is announced on the grants.gov and the UTC Program Web site http://utc.dot.gov. The letter of intent must identify the following items:

• The category of grant(s) that the applicant will apply for (National, Regional, Tier I);

• The chosen goal in which to focus research, out of the Department's five strategic goals; and

• The members of the consortium, if any, for each of the applications.

Letters of intent will be required so that the Department's review panels, comprising relevant subject-matter experts, may be organized in advance of receipt of final proposals. If an institution intends to apply for more than one UTC grant, a separate letter of intent must be submitted for each intended application.

Selection criteria. The Department will evaluate and select UTC applicants based on the nine selection criteria outlined in MAP-21:

“(i) the demonstrated ability of the recipient to address each specific topic area described in the research and strategic plans of the recipient;

“(ii) the demonstrated research, technology transfer, and education resources available to the recipient to carry out this section;

“(iii) the ability of the recipient to provide leadership in solving immediate and long range national and regional transportation problems;

“(iv) the ability of the recipient to carry out research, education, and technology transfer activities that are multimodal and multidisciplinary in scope;

“(v) the demonstrated commitment of the recipient to carry out transportation workforce development programs through—

“(I) degree-granting programs; and

“(II) outreach activities to attract new entrants into the transportation field;

“(vi) the demonstrated ability of the recipient to disseminate results and spur the implementation of transportation research and education programs through national or statewide continuing education programs;

“(vii) the demonstrated commitment of the recipient to the use of peer review principles and other research best practices in the selection, management, and dissemination of research projects;

“(viii) the strategic plan submitted by the recipient describing the proposed research to be carried out by the recipient and the performance metrics to be used in assessing the performance of the recipient in meeting the stated research, technology transfer, education, and outreach goals; and

“(ix) the ability of the recipient to implement the proposed program in a cost efficient manner, such as through cost sharing and overall reduced overhead, facilities, and administrative costs.”

(49 U.S.C. 5505(b)(4)(B) as amended by Pub. L. 112-141, Sec. 52009 (effective Oct. 1, 2012)).

These criteria apply to the evaluation and selection of all three categories of UTCs. The following additional selection criteria apply to Regional UTCs and Tier I UTCs:

Regional UTCs. The institution (or lead institution in the case of a consortium) must have a well-established, nationally recognized program in research and education, as shown by:

“(I) recent expenditures by the institution in highway or public transportation research;

“(II) a historical track record of awarding graduate degrees in professional fields closely related to highways and public transportation; and

“(III) an experienced faculty who specialize in professional fields closely related to highways and public transportation.”

(49 U.S.C. 5505(c)(3)(B)(iii) as amended by Pub. L. 112-141, Sec. 52009 (effective Oct. 1, 2012)).

Tier I UTCs. Consideration will be given to minority institutions, as defined by section 365 of the Higher Education Act of 1965 (20 U.S.C. 1067k), or consortia that include such institutions that have demonstrated an ability in transportation-related research.

External Stakeholders. The Department will consult with external stakeholders (including the Transportation Research Board of the National Academy of Sciences, among others), to the maximum extent practicable, to evaluate and review all proposals. (49 U.S.C. 5505(b)(6) as amended by Pub. L. 112-141, Sec. 52009 (effective Oct. 1, 2012)).

V. Program Funding and Award

UTCs will be selected by the Secretary, in consultation as appropriate with the Administrators of the Federal Highway Administration and the Federal Transit Administration.

VI. Use of Grant Funds

According to the terms of the grant agreements, grantees will have until September 30, 2017 to expend both FY13 funds and, assuming availability, FY14 funds.

VII. Request for Comments

Because of the changes made by MAP-21 to the UTC program, this notice invites interested parties to submit comments on any aspect of the Department's implementation of MAP-21 requirements for awarding UTC grants. The Department will consider these comments as it continues to implement the UTC program and develops its future grant solicitation. The instructions for submitting comments can be found in the Addresses section above. Late-filed comments will be considered to the extent practicable.

Issued in Washington, DC, on September 25, 2012.
Ray LaHood,
Secretary.

[FR Doc. 2012-24114 Filed 09-28-2012; 8:45 am]

BILLING CODE 4910-HY-P